DEPARTMENT OF COMMERCE

Patent and Trademark Office

[Docket No. PTO-C-2015-0036]

2015 Application Period for the Patents for Humanity Program

AGENCY: United States Patent and Trademark Office, Commerce.

ACTION: Notice.

SUMMARY: Patents for Humanity is an annual program through which the United States Patent and Trademark Office (USPTO) recognizes patent holders who use their technology for humanitarian purposes. This year, the USPTO will accept applications for recognition under the program from July 1, 2015, to December 4, 2015. All other program terms remain the same as the terms of the 2014 program.

DATES: Effective Date: June 29, 2015.

FOR FURTHER INFORMATION CONTACT: Office of Policy and International Affairs, by telephone at (571) 272-9300; by mail addressed to: Patents for Humanity Program, Office of Policy and International Affairs, United States Patent and Trademark Office, P.O. Box 1450, Alexandria, VA 22313-1450; or by email to patentsforhumanity@uspto.gov.

SUPPLEMENTARY INFORMATION: Patents for Humanity is a program through which the USPTO recognizes patent owners who use their technology for humanitarian purposes. See Patents for Humanity Program, 79 FR 18670 (Apr. 3, 2014), for a description of the program.

In 2015, the USPTO will accept applications for recognition under the program from July 1, 2015, through December 4, 2015. The USPTO accepted applications for awards under the previous year's program from April 15, 2014, to September 15, 2014. This year's schedule will allow the USPTO to conduct outreach during the fall months and to administer the selection process during the winter. The USPTO expects to announce awards in the spring of 2016.

All other terms of the program remain as published in the Federal Register in 2014. See Patents for Humanity Program, 79 FR 18670 (Apr. 3, 2014), or visit http://www.uspto.gov/patentsforhumanity for details.

Dated: June 22, 2015.
Michelle K. Lee,
Under Secretary of Commerce for Intellectual Property and Director of the United States Patent and Trademark Office.

[FR Doc. 2015-15854 Filed 6-26-15; 8:45 am]

BILLING CODE 3510-16-P